DEPARTMENT OF EDUCATION

National Advisory Committee on Institutional Quality and Integrity Meeting

AGENCY: National Advisory Committee on Institutional Quality and Integrity (NACIQI), Office of Postsecondary Education, Department of Education.

ADDRESSES: U.S. Department of Education, Office of Postsecondary Education, 1990 K Street NW., Room 8072, Washington, DC 20006.

ACTION: Notice of an open (virtual) meeting and the opportunity to make third party comments.

Naciqi's Statutory Authority And Function: The NACIQI is established under Section 114 (d)(2)(B) of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the schedule for the March 23, 2015, virtual meeting of NACIQI, and provides information to members of the public on registering for the meeting, and for submitting written comments and requests to make oral comments. The notice of this virtual meeting is required under Section 10(a)(2) of the Federal Advisory Committee Act (FACA) and Section 114(d)(2)(B) of the Higher Education Act (HEA) of 1965, as amended, 20 U.S.C. 1011c.

DATES: The NACIQI virtual meeting will be held on Monday, March 23, 2015, beginning at 1:00 p.m. and ending at 4:00 p.m., Eastern Time. The proposed agenda for this virtual meeting consists of discussion and final action on the draft NACIQI Policy Recommendations Report. The report may be accessed at: http://www2.ed.gov/about/bdscomm/list/naciqi-dir/2014-fall/naciqi-draft-recomendations-report-01012015.pdf.

Meeting Registration: The deadline for registering to attend the virtual meeting is Monday, March 9, 2015. Registration space for the virtual meeting is limited. To register to attend the virtual meeting, email your registration to ThirdPartyComments@ed.gov mailbox and enter “Registration for NACIQI” in the subject line of the message. In the body of the email message, please include your name, title, affiliation, mailing address, email address, and telephone number. All registrants will receive an email with the call-in number.

Submission of Written/Oral Comments Regarding the Committee's Policy Recommendations: Written comments must be received by March 9, 2015, in ThirdPartyComments@ed.gov mailbox and include the subject line “Written Comments: Policy Recommendations 2014”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the NACIQI members.

To request to make oral comments during the meeting, email your request to ThirdPartyComments@ed.gov mailbox and enter “Registration for NACIQI and Request to Make Oral Comments” in the subject line of the email message. In the body of the email message, please provide your name, title, affiliation, mailing address, email address, and telephone number as well as a brief explanation of no more than five sentences that summarize your anticipated comments.

A total of 30 minutes will be allotted for public comment. Six commenters will be selected on a first-come, first-served basis. Each commenter will be allotted no more than five minutes. The Department will inform all requesters of their selection status in advance of the meeting. Individuals who need accommodations for a disability in order to attend the virtual meeting should contact Patricia Howes at patricia.howes@ed.gov, or email ThirdPartyComments@ed.gov mailbox no later than March 9, 2015. The virtual meeting site is accessible to individuals with disabilities.

FOR FURTHER INFORMATION CONTACT: Carol Griffiths, Executive Director, NACIQI, U.S. Department of Education, 1990 K Street NW., Room 8073, Washington, DC 20006-8129, telephone: (202) 219-7035, fax: (202) 502-7874, or email Carol.Griffiths@ed.gov.

Electronic Access to This Document: The official version of this document is the document published in the Federal Register. Free Internet access to the official edition of the Federal Register and the Code of Federal Regulations is available via the Federal Digital System at www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Section 114 (d)(2)(B) of the HEA of 1965, as amended, 20 U.S.C. 1011c.

Lynn B. Mahaffie,
Deputy Assistant Secretary for Policy, Planning, and Innovation, Delegated the Authority to Perform the Functions and Duties of the Assistant Secretary for Postsecondary Education.

[FR Doc. 2015-03612 Filed 2-24-15; 8:45 am]

BILLING CODE 4000-01-P